DEPARTMENT OF THE INTERIOR

Bureau of Land Management

[LLCA930000-L14400000-ET0000; CACA-054374]

Public Land Order No. 7931; Withdrawal of National Forest System Land in the San Bernardino National Forest; CA

AGENCY: Bureau of Land Management, Interior.

ACTION: Public land order.

SUMMARY: This Public Land Order (PLO) withdraws 2,841 acres of National Forest System lands from location and entry under the United States mining laws, but not from leasing under the mineral or geothermal leasing laws, or disposal under the Mineral Materials Act of 1947, for a period of 50 years, subject to valid existing rights, to maintain, protect, and conserve critical habitat for listed threatened and endangered plant species in the San Bernardino National Forest, California. This PLO also includes 280 acres of non-Federal lands within the boundaries of the San Bernardino National Forest that, if acquired, would be subject to this withdrawal.

DATES: This PLO takes effect on October 20, 2023.

FOR FURTHER INFORMATION CONTACT: Heather Daniels, Bureau of Land Management (BLM) California State Office, telephone: 916-978-4674, email: hdaniels@blm.gov; or Zareen Ali, Forest Service Regional Office, telephone: 707-562-8964 during regular business hours, 8:00 a.m. to 4:30 p.m. Monday through Friday, except holidays. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The United States Forest Service will manage the lands to maintain, protect, and conserve critical habitat for listed threatened and endangered plant species in the San Bernardino National Forest, California.

Order

By virtue of the authority vested in the Secretary of the Interior by section 204(f) of the Federal Land Policy and Management Act of 1976, 43 U.S.C. 1714(f), it is ordered as follows:

1. Subject to valid existing rights, the following described lands are hereby withdrawn from location and entry under the United States mining laws, but not from leasing under the mineral or geothermal leasing laws or disposal under the Mineral Materials Act of 1947, to maintain, protect, and conserve critical habitat for listed threatened and endangered plant species in the San Bernardino National Forest, California.

National Forest System Lands

San Bernardino National Forest

San Bernardino Meridian, California

T. 3 N., R. 1 E.,

Sec. 13, SE¼;

Sec. 14, W½NE¼SW¼, W½SE¼NE¼SW¼, NW¼NW¼SW¼, NW¼SW¼NW¼SW¼, E½SW¼NW¼SW¼, E½NW¼SW¼, NE¼SW¼SW¼, NE¼NW¼SW¼SW¼, E½SE¼SW¼SW¼, and SE¼SW¼; Sec. 19, lot 4 and SE¼SW¼; Sec. 23, NE¼NE¼NE¼; Sec. 24, NE¼ and NW¼; Sec. 30, lots 1 and 2, NE¼, and E½NW¼.

T. 3 N., R. 2 E.,

A parcel of land within Protracted Blocks 39, 40, 45, and 46 of Township 3 North, Range 2 East, San Bernardino Meridian, San Bernardino County, California adjoining the southeast quarter of section 13 and the northeast quarter of section 24 in Township 3 North, Range 1 East, San Bernardino Meridian, and being more particularly described as follows:

Beginning at the east quarter section corner of said section 13;

Thence along the easterly line of said section, South 1°30′20″ East, 2935.53 feet to the easterly section corner of said sections 13 and 24;

Thence along the easterly line of said section 24, South 1°27′50″ East, 2594.76 feet, to the east quarter section corner of said section 24;

Thence along the following 5 courses in the unsurveyed portion of Township 3 North, Range 2 East, San Bernardino Meridian:

1. North 90°00′00″ East, 2441.85 feet;

2. North 1°27′50″ West, 2594.76 feet;

3. North 90°00′00″ East, 2308.15 feet;

4. North 1°30′20″ West, 2935.53 feet;

5. South 90°00′00″ West, 4750.00 feet to the Point Of Beginning;

Excepting therefrom any portion within Mineral Survey 5679A as patented August 8th, 1924 to Voorhies, et al (Patent Number 942560); Containing 430 acres, more or less.

T. 2 N., R. 3 E.,

Sec. 17, N½SW¼.

T. 3 N., R. 1 W.,

Sec. 10, SE¼;

Sec. 14, W½NW¼ and W½SW¼;

Sec. 15, NE¼;

Sec. 22, SE¼;

Sec. 23, W½NW¼, W½NE¼SW¼, S½SE¼NE¼SW¼, NW¼SW¼, S½SW¼, S½SW¼NE¼SE¼, S½SE¼NE¼SE¼, S½SW¼NW¼SE¼, S½SE¼NW¼SE¼, and S½SE¼;

Sec. 26, NW¼NW¼;

Sec. 27, lot 1, NE¼, N½NW¼, and SW¼NW¼.

The area described aggregates 2,841.

The following described non-Federal lands are within the boundaries of the San Bernadino National Forest. If title to these non-Federal lands are subsequently acquired by the United States, the lands will become subject to the terms and conditions of the withdrawal.

Non-Federal Lands

San Bernardino Meridian, California

T. 3 N., R. 1 E.,

Sec. 13, SW¼;

Sec. 14, NE¼SE¼ and S½SE¼.

The area described aggregates 280 acres in San Bernadino County.

2. The withdrawal made by this order does not alter the applicability of those laws governing the use of National Forest System lands under lease, license, or permit, or governing the disposal of the mineral or vegetative resources other than under the mining laws.

3. This withdrawal will expire 50 years from the effective date of this Order, unless, as a result of a review conducted prior to the expiration date pursuant to Section 204(f) of the Federal Land Policy and Management Act of 1976, 43 U.S.C. 1714(f), the Secretary determines that the withdrawal shall be extended.

(Authority: 43 U.S.C. 1714)

Shannon A. Estenoz,
Assistant Secretary for Fish and Wildlife and Parks.

[FR Doc. 2023-23258 Filed 10-19-23; 8:45 am]

BILLING CODE 3411-15-P